DEPARTMENT OF THE INTERIOR

Fish and Wildlife Service

[FWS-R4-R-2008-N0147; 40136-1265-0000-S3]

Pocosin Lakes National Wildlife Refuge, Hyde, Tyrrell, and Washington Counties, NC

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for Pocosin Lakes National Wildlife Refuge. In the final CCP, we describe how we will manage this refuge for the next 15 years.

ADDRESSES: A copy of the CCP may be obtained by writing to: Howard A. Phillips, Refuge Manager, Pocosin Lakes National Wildlife Refuge, P.O. Box 329, Columbia, NC 27925. The CCP may also be accessed and downloaded from the Service's Internet site: http://southeast.fws.gov/planning.

FOR FURTHER INFORMATION CONTACT: Howard A. Phillips; Telephone: 252/796-3004.

SUPPLEMENTARY INFORMATION:

Introduction

With this notice, we finalize the CCP process for Pocosin Lakes National Wildlife Refuge. We started this process through a notice in the Federal Register on November 3, 2000 (65 FR 66256). For more about the process, see that notice.

Congress established the 12,000-acre Pungo National Wildlife Refuge in 1963 by the authorities of the Migratory Bird Conservation Act of 1929 and the Fish and Wildlife Act of 1956. In 1990, we established Pocosin Lakes National Wildlife Refuge, making Pungo Refuge a unit of Pocosin Lakes Refuge. The refuge now consists of 110,106 acres. We named the refuge for the pocosin habitat that dominates the landscape and for the lakes that occur within the pocosin.

We announce our decision and the availability of the final CCP and FONSI for Pocosin Lakes National Wildlife Refuge in accordance with the National Environmental Policy Act (NEPA) (40 CFR 1506.6(b)) requirements. We completed a thorough analysis of impacts on the human environment, which we included in the draft comprehensive conservation plan and environmental assessment (Draft CCP/EA). The CCP will guide us in managing and administering Pocosin Lakes Refuge for the next 15 years.

The compatibility determinations for hunting; fishing; wildlife observation and photography; environmental education and interpretation; access for public uses; trapping of selected furbearers and feral hogs for nuisance animal management; refuge resource research studies; cooperative farming program; commercial photography; commercial tours and guiding; wood and reed gathering and cutting; and meetings of non-service agencies and organizations are all available in the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 130 copies of the Draft CCP/EA were made available for a 30-day public review period as announced in the Federal Register on July 12, 2007 (72 FR 38097). Twelve agencies and/or individuals submitted comments, either in writing or at public forums. Four persons spoke at the public forums and eight presented written comments, representing state agencies, local government agencies, non-governmental organizations, businesses, and local citizens.

Selected Alternative

We developed four alternatives for management of the refuge and chose Alternative 2 as the preferred alternative. We selected Alternative 2 based on the sound professional judgment of the staff and after considering the comments we received on the draft document. The primary focus under Alternative 2 will be to optimize management of the impoundments very intensively by controlling water levels and vegetation to create optimum habitat for migrating waterfowl. Implementing the CCP will result in moderate program increases to address the refuge's highest priorities. We will manage pine forests and marshes with prescribed fire and will manage the vegetative composition of habitats in selected areas. Waterfowl will be surveyed on a routine basis. We will develop inventory plans for all species and implement them in selected habitats. We will develop and implement a black bear management plan. The visitor center will be maintained by volunteers and cooperating agency personnel supplementing refuge personnel. The volunteer program will be expanded by recruiting volunteers to contribute 4,000 hours of service. We will construct two pads for recreational vehicles in order to attract volunteers. There will be 17.5 staff members dedicated to refuge management and 7.5 staff members dedicated to fire management. The six priority public uses will be allowed, with the refuge staff conducting environmental education and interpretation programs to meet local needs.

Authority: This notice is published under the authority of the National Wildlife Refuge System Improvement Act of 1997, Public Law 105-57.

Dated: June 10, 2008.
Cynthia K. Dohner,
Acting Regional Director.

[FR Doc. E8-17766 Filed 8-1-08; 8:45 am]

BILLING CODE 4310-55-P